DEPARTMENT OF THE INTERIOR

Bureau of Land Management

[CO-820-1430-EQ and COC 68264]

Notice of Realty Action, Temporary Access Restriction and Closure of Public Land

AGENCY: Bureau of Land Management, Interior.

ACTION: Notice of realty action.

SUMMARY: Public access to the following lands in San Juan County, Colorado, has been temporarily restricted and partially closed to public use under federal regulations at Title 43 Code of Federal Regulations § 8364.1.

FOR FURTHER INFORMATION CONTACT: Charlie Higby, BLM Realty Specialist, (970) 385-1374; San Juan Public Lands Center, 15 Burnett Court, Durango, Colorado 81301.

SUPPLEMENTARY INFORMATION: A portion of federal lands within sections 19, 20, 21, 27, 28, 29, 30, 32, 33, 34, of protracted Township 42 N., R.7 W., New Mexico Principal Meridian, further described as the SOLRC boundary. Access to the BLM public lands south of San Juan County Road # 52, will be restricted to the travel route along San Juan County Road # 52. The public lands accessed by this route are located approximately 1.7 miles south of the intersection of San Juan County Roads # 52 and # 110 in Colorado Basin. This location provides access to the area south of the BLM access point sign south towards Storm Peak only; this is the north face of Storm Peak. With the exception of County Road #52, the public lands north of the BLM access sign (towards Gladstone) are closed to public access. The San Juan County Road # 52 access route is restricted to the roadway at all times until reaching the BLM public land access point.

The seasonal access restriction and closure to the public lands will continue until June 15, 2005.

The following entities are exempt from the access restriction, however, their entry into the closure area must be coordinated with SOLRC to ensure that conditions for access are safe:

• Any Federal, State or local officer, or member of an organized rescue or firefighting force in performance of an official duty;

• Private property owners in the act of accessing their property;

• Other entities authorized under special-use permit by the BLM, including Core Mountain Enterprises, dba as SOLRC.

The access closure is necessary to protect the public health and safety during periods of avalanche and snow data collection work as authorized under BLM permit COC 68264.

Any person who fails to comply with a closure or restricted use order issued under this subpart may be subject to penalties provided for at U.S.C. 3571, including a fine not to exceed $100,000 and/or imprisonment not to exceed 1 year.

This action has been coordinated with the San Juan County Commissioners.

Howard Sargent,
Acting Center Manager, San Juan Public Lands Center.

[FR Doc. 05-4165 Filed 3-3-05; 8:45 am]

BILLING CODE 4310-JB-P